DEPARTMENT OF AGRICULTURE

Submission for OMB Review; Comment Request

May 7, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: 7 CFR 1956-C, Debt Settlement—Community and Business Programs.

OMB Control Number: 0575-0124.

Summary of Collection: The Community and Direct Business Programs loans and grants are authorized by the Consolidated Farm and Rural Development Act. Rural Housing Service (RHS) is a credit agency for agricultural and rural development for the United States Department of Agriculture and offers supervised credit to develop, improve and operate family farms, modest housing, essential community facilities, and business and industry across rural America. 7 CFR part 1956-C, Debt Settlement—Community and Business Programs provides policies and procedures as well as a mechanism for debt settlement in connection with Community Facilities loans and grants, direct Business and Industry loans, Indian Tribal Land Acquisition loans and Irrigation and Drainage. The debt settlement program provides the delinquent client with an equitable tool for the compromise, adjustment, cancellation, or charge-off of a debt owed to the Agency.

Need and Use of the Information: The field offices will collect information from applicants, borrowers, consultants, lenders, and attorneys to determine eligibility, financial capacity and derive an equitable resolution. This information collected is similar to that required by a commercial lender in similar circumstances. Failure to collect the information could result in improper servicing of these loans.

Description of Respondents: Not for profit institutions; Business or other for-profit; State, local or Tribal government.

Number of Respondents: 25.

Frequency of Responses: Reporting: On occasion.

Total Burden Hours: 347.

Rural Housing Service

Title: USDA Rural Development—Centralized Servicing Center—Loan Servicing Satisfaction Survey.

OMB Control Number: 0575-0187.

Summary of Collection: The Rural Housing Service (RHS) provides insured loans to low and moderate-income applicants located in rural geographic areas to assist them in obtaining decent, sanitary and safe dwellings. RHS Centralized Servicing Center (CSC) has been in operation since October 1996. The CSC was established to achieve a high level of customer service and operating efficiency that provides its borrowers with convenient access to their loan account information. RHS has developed a survey to measure the results and overall effectiveness of customer services provided.

Need and Use of the Information: RHS will use the outcome of the Customer Satisfaction Survey to determine the general satisfaction level among its customers throughout the nation, highlight areas that need improvement and provide a benchmark for future surveys and improvement in customer service. The survey is administered as part of CSC's on going service quality improvement program.

Description of Respondents: Individual or households.

Number of Respondents: 6,000.

Frequency of Responses: Reporting: On occasion.

Total Burden Hours: 960.

Charlene Parker,
Departmental Information Collection Clearance Officer.

[FR Doc. 2010-11269 Filed 5-11-10; 8:45 am]

BILLING CODE 3410-XT-P